ENVIRONMENTAL PROTECTION AGENCY

[OPP-2005-0285; FRL-7743-6]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of request by registrants to voluntarily cancel certain pesticide registrations.

DATES: Unless a request is withdrawn by April 26, 2006, orders will be issued canceling these registrations. The Agency will consider withdrawal requests postmarked no later than April 26, 2006.

FOR FURTHER INFORMATION CONTACT: John Jamula, Information Technology and Resource Management Division (7502C), Office of Pesticide Programs, Environmental Protection Agency, 1200 Pennsylvania Ave., NW., Washington, DC 20460-0001; telephone number: (703) 305-6426; e-mail address: jamula.john@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established an official public docket for this action under docket identification (ID) number OPP-2005-0285. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

This notice announces receipt by the Agency of applications from registrants to cancel 91 pesticide products registered under section 3 or 24(c) of FIFRA. These registrations are listed in sequence by registration number (or company number and 24(c) number) in Table 1 of this unit:

Table 1.—Registrations With Pending Requests for Cancellation
Registration no. | Product Name | Chemical Name
000100-01002 | Gramoxone Super Herbicide | Paraquat dichloride
000100-01009 | Cyclone Herbicide | Paraquat dichloride
000100-01010 | Surefire Herbicide | Diuron
|  | Paraquat dichloride
000100-01043 | Gramoxone Extra Herbicide | Paraquat dichloride
000100-01074 | Cyclone Concentrate Herbicide | Paraquat dichloride
000192-00217 | Marman Temephos 1% Granule | Temephos
000192-00218 | Marman Temephos 4 EC | Temephos
000228-00209 | Riverdale Team 1.50 Lawn Weed and Feed | Trifluralin
|  | Benfluralin
000228-00254 | Riverdale Team Tm .88 Lawn Weed and Feed | Trifluralin
|  | Benfluralin
000228-00255 | Riverdale Team 1.11% Lawn Weed and Feed | Trifluralin
|  | Benfluralin
000228-00257 | Riverdale Team .67% Lawn Weed and Feed | Trifluralin
|  | Benfluralin
000241-00325 | Passport Herbicide | Trifluralin
|  | Ammonium salt of (+/-)-2-(4,5-dihydro-4-methyl-4-(1-methylethyl)-5-oxo-1H-imidazol-2-yl)-5-e
000264-00628 | Betanex 70 WP | Desmedipham
000264-00629 | Betamix 70WP | Phenmedipham
|  | Desmedipham
000264-00945 | Gustafson Flo-Pro IMZ Flowable | Imazalil
000264 CA-80-0146 | Guthion 50% Wettable Powder In Water Soluble Packets | Azinphos-Methyl
000264 CO-02-0009 | Gustafson Flo-Pro Imz Flowable | Imazalil
000264 ID-98-0014 | Gustafson Flo-Pro IMZ Flowable | Imazalil
000270-00344 | Adams Flea and Tick Dust II | Carbaryl
|  | Piperonyl butoxide
|  | Pyrethrins
|  | Silica gel
000270-00361 | Mycodex Pet Shampoo with Carbaryl | Carbaryl
000303-00079 | Tor Germicidal Cleaner | Alkyl* dimethyl benzyl ammonium chloride *(60%C14, 30%C16, 5%C18,5%C12)
|  | Alkyl* dimethyl ethylbenzyl ammonium chloride *(50%C12, 30%C14, 17%C16,3%C18)
000303-00209 | Ascend | Alkyl* dimethyl benzyl ammonium chloride *(50%C14, 40%C12,10%C16)
|  | 1-Decanaminium, N-decyl-N,N-dimethyl-, chloride
000303-00210 | Q-Cide | Alkyl* dimethyl benzyl ammonium chloride *(50%C14, 40%C12,10%C16)
|  | 1-Decanaminium, N-decyl-N,N-dimethyl-, chloride
000303-00226 | Tor II | Alkyl* dimethyl benzyl ammonium chloride *(50%C14, 40%C12,10%C16)
|  | 1-Decanaminium, N-decyl-N,N-dimethyl-, chloride
000432-00773 | Bioresmethrin ULV | Bioresmethrin
000464-00713 | Ucarcide P200 Antimicrobial | 1,2-Benzenedicarboxaldehyde
000769-00579 | R & M Flea & Tick Spray #1 | 2,5-Pyridinedicarboxylic acid, dipropyl ester
|  | 4,7-Methano-1H-isoindole-1,3(2H)-dione,2-(2-ethylhexyl)-3a,4,7,7a-tetrahydro-
|  | Piperonyl butoxide
|  | Pyrethrins
000769-00580 | R & M Flea & Tick Shampoo #1 | 2,5-Pyridinedicarboxylic acid, dipropyl ester
|  | 4,7-Methano-1H-isoindole-1,3(2H)-dione,2-(2-ethylhexyl)-3a,4,7,7a-tetrahydro-
|  | Piperonyl butoxide
|  | Pyrethrins
000769-00581 | R & M Flea & Tick Spray #2 | 2,5-Pyridinedicarboxylic acid, dipropyl ester
|  | 4,7-Methano-1H-isoindole-1,3(2H)-dione,2-(2-ethylhexyl)-3a,4,7,7a-tetrahydro-
|  | Piperonyl butoxide
|  | Pyrethrins
000769-00582 | R & M Flea & Tick Shampoo #2 | 2,5-Pyridinedicarboxylic acid, dipropyl ester
|  | 4,7-Methano-1H-isoindole-1,3(2H)-dione,2-(2-ethylhexyl)-3a,4,7,7a-tetrahydro-
|  | Piperonyl butoxide
|  | Pyrethrins
000769-00606 | Sureco Insect Repellent Spray | 2,5-Pyridinedicarboxylic acid, dipropyl ester
|  | 4,7-Methano-1H-isoindole-1,3(2H)-dione,2-(2-ethylhexyl)-3a,4,7,7a-tetrahydro-
|  | Diethyl toluamide
000769-00615 | R & M Flea and Tick Shampoo #7 | 2,5-Pyridinedicarboxylic acid, dipropyl ester
|  | 4,7-Methano-1H-isoindole-1,3(2H)-dione,2-(2-ethylhexyl)-3a,4,7,7a-tetrahydro-
|  | Piperonyl butoxide
|  | Pyrethrins
000769-00905 | Gibberellic Acid Wonder-Brel | Gibberellic acid, monopotassium salt
000829-00131 | SA-50 Brand Sevin 1.75% Dust | Carbaryl
000829-00182 | SA-50 Brand Bait Pellets Kill Land Snails & Slugs | Metaldehyde
|  | Carbaryl
002212-00002 | Elimstaph No. 2 Germicidal Cleaner | Alkyl* dimethyl benzyl ammonium chloride *(50%C14, 40%C12,10%C16)
002724-00501 | Elite Flea & Tick Shampoo #8 | 2,5-Pyridinedicarboxylic acid, dipropyl ester
|  | 4,7-Methano-1H-isoindole-1,3(2H)-dione,2-(2-ethylhexyl)-3a,4,7,7a-tetrahydro-
|  | Piperonyl butoxide
|  | Pyrethrins
002935-00537 | Clean Crop Captan 5% Potato Seed Treater | Captan
002935-00538 | Potato Seed Treater with Bark | Captan
005481-00256 | Royal Brand Ferbam Dust | Ferbam
005481-00268 | 76W Ferbam Fungicide | Ferbam
007401-00072 | Ferti-Lome Improved Bug Bait | Metaldehyde
|  | Carbaryl
007401-00081 | Ferti-Lome Carbaryl-Sulfur 10-40 Dust | Carbaryl
|  | Sulfur
007401-00083 | Ferti-Lome Carbaryl Garden Spray | Carbaryl
007401-00148 | Sevin & Molasses Insect Bait | Carbaryl
007401-00154 | 10% Sevin Dust | Carbaryl
007401-00210 | Hi-Yield Sevin Emulisfiable Concentrate | Carbaryl
007401-00291 | Hi-Yield Mater-Tater and Other Vegetable Dust | Carbaryl
007401-00310 | Hi-Yield Sevin Plus Dipel Dust | Bacillus thuringiensis (Berliner)
|  | Carbaryl
007401-00334 | Hi-Yield Sos Garden Dust | Carbaryl
|  | Sulfur
007401-00386 | Ferti-Lome Gypsy Moth, Japanese Beetle and Pine Moth | Carbaryl
008660-00068 | Ferbam Fungicide | Ferbam
008660-00139 | Vertagreen Fertilizer for Professional Use with Balan | Benfluralin
|  | Oryzalin
008660-00146 | Vertagreen Pre-Emergence Weed & Feed | Benfluralin
|  | Oryzalin
009444-00028 | Fly Foam Insect Repellent for Horses | 2,5-Pyridinedicarboxylic acid, dipropyl ester
|  | 4,7-Methano-1H-isoindole-1,3(2H)-dione,2-(2-ethylhexyl)-3a,4,7,7a-tetrahydro-
|  | Piperonyl butoxide
|  | Pyrethrins
009444-00098 | Purge Wasp & Hornet Jet Freeze | Carbaryl
|  | Piperonyl butoxide
|  | Pyrethrins
009444-00190 | Wasp & Hornet Jet Freeze I | Carbaryl
|  | Piperonyl butoxide
|  | Pyrethrins
010159-00002 | VPG 5% Sevin Dust | Carbaryl
010163-00032 | Prokil Carbaryl Bait | Carbaryl
010163-00060 | Gowan Carbaryl 4 | Carbaryl
010163-00124 | Gowan Carbaryl 10 Dust | Carbaryl
010163-00133 | Gowan Carbaryl 80 WP | Carbaryl
010163-00134 | Gowan Carbaryl 80 WSB | Carbaryl
010163 UT-01-0005 | Prokil Carbaryl Bait | Carbaryl
012455 PA-82-0016 | Ditrac Rat and Mouse Bait | Diphacinone
019713-00068 | Drexel Ziram 76 | Ziram
019713-00279 | IDA, Inc. Ziram 76 A Wettable Fungicide | Ziram
034911-00006 | Hi-Yield 5% Sevin Dust | Carbaryl
034911-00008 | Hi-Yield Bug Bait | Metaldehyde
|  | Carbaryl
040849-00057 | Enforcer Flea & Tick Spray X | 2,5-Pyridinedicarboxylic acid, dipropyl ester
|  | 4,7-Methano-1H-isoindole-1,3(2H)-dione,2-(2-ethylhexyl)-3a,4,7,7a-tetrahydro-
|  | Piperonyl butoxide
|  | Pyrethrins
040849-00058 | Enforcer Flea & Tick Shampoo X | 2,5-Pyridinedicarboxylic acid, dipropyl ester
|  | 4,7-Methano-1H-isoindole-1,3(2H)-dione,2-(2-ethylhexyl)-3a,4,7,7a-tetrahydro-
|  | Piperonyl butoxide
|  | Pyrethrins
040849-00073 | Fleapro Ear Mite Treatment | 2,5-Pyridinedicarboxylic acid, dipropyl ester
|  | 4,7-Methano-1H-isoindole-1,3(2H)-dione,2-(2-ethylhexyl)-3a,4,7,7a-tetrahydro-
|  | Piperonyl butoxide
|  | Pyrethrins
042964-00002 | A-3 | Alkyl* dimethyl benzyl ammonium chloride *(60%C14, 30%C16, 5%C18,5%C12)
042964-00029 | Asepticare Spray Cleaner/Disinfectant | Alkyl* dimethyl benzyl ammonium chloride *(60%C14, 30%C16, 5%C18,5%C12)
|  | Alkyl* dimethyl benzyl ammonium chloride *(50%C14, 40%C12,10%C16)
|  | Alkyl* dimethyl ethylbenzyl ammonium chloride *(68%C12, 32%C14)
045735-00024 | Carbaryl 99% Technical Grade Insecticide | Carbaryl
045735-00025 | Carbaryl 4L Flowable | Carbaryl
047000-00134 | Clean Crop Equinol Horse Spray | 2,5-Pyridinedicarboxylic acid, dipropyl ester
|  | 4,7-Methano-1H-isoindole-1,3(2H)-dione,2-(2-ethylhexyl)-3a,4,7,7a-tetrahydro-
|  | Piperonyl butoxide
|  | Pyrethrins
047000-00142 | Horse Fly Spray R | 2,5-Pyridinedicarboxylic acid, dipropyl ester
|  | Piperonyl butoxide
|  | Pyrethrins
048273-00003 | Ametryne 80W | Ametryn
051036 PA-03-0001 | Diazinon AG 500 | Diazinon
051036 TX-01-0014 | Diazinon AG 500 | Diazinon
051036 WA-03-0011 | Diazinon AG 500 | Diazinon
053883-00041 | Martin's 10% Sevin Dust | Carbaryl
053883-00042 | Martin's 5% Sevin Dust | Carbaryl
053883-00043 | M Martin's Lice Killer contains Sevin | Carbaryl
056938-00003 | Fresh & Clean | EDTA, tetrasodium salt
|  | 1-Decanaminium, N-decyl-N,N-dimethyl-, chloride
|  | Sodium metasilicate
|  | Sodium carbonate
067760 WA-00-0004 | Cheminova Methyl Parathion 4 EC | Methyl parathion

Unless a request is withdrawn by the registrant within 180 days of publication of this notice, orders will be issued canceling all of these registrations. Users of these pesticides or anyone else desiring the retention of a registration should contact the applicable registrant directly during this 180-day period.

In addition to the registrations listed in Table 1, the Agency received requests to cancel four additional registrations. Under terms of a memorandum of agreement the effective date of cancellation for these four registrations will be December 31, 2005, and the existing stocks date will be December 31, 2006. The four registrations in question are: 001812-00451 Finitron Brand Sulfluramid AB MUP ; 001812-00348 Volcano Ant Bait; 000279-03154 Fluoguard Ant Control Baits; and 000499-00459 Micro-Gen Ant Reactor.

Table 2 of this unit includes the names and addresses of record for all registrants of the products in Table 1 of this unit, in sequence by EPA company number:

Table 2—Registrants Requesting Voluntary Cancellation
EPA Company no. | Company Name and Address
000100 | Syngenta Crop Protection, Inc., Attn: Regulatory Affairs, Po Box 18300, Greensboro, NC 27419-8300
000192 | Value Gardens Supply, LLC, d/b/a Value Gardens Supply, PO Box 585, Saint Joseph, MO 64502
000228 | Nufarm Americas Inc., 1333 Burr Ridge Parkway, Suite 125a, Burr Ridge, IL 60527-0866
000241 | BASF Corp., PO Box 13528, Research Triangle Park, NC 27709-3528
000264 | Bayer Cropscience LP, 2 T.W. Alexander Drive, Research Triangle Park, NC 27709
000270 | Farnam Companies Inc., PO Box 34820, Phoenix, AZ 85067
000279 | FMC Corp. Agricultural Products Group, 1735 Market St, Philadelphia, PA 19103
000303 | Huntington Professional Products, A Service of Ecolab, Inc., 370 N. Wabasha Street, St. Paul, MN 55102
000432 | Bayer Environmental Science, A Business Group of Bayer Cropscience LP, PO Box 12014, Research Triangle Park, NC 27709
000464 | Dow Chemical Co., The, Attn: Rhonda Vance-Moeser, 1803 Building, Midland, MI 48674
000499 | Whitmire Micro-Gen Research Laboratories Inc., 3568 Tree Ct. Industrial Blvd., St Louis, MO 63122-6682
000769 | Value Gardens Supply, LLC, d/b/a Value Garden Supply, PO Box 585, Saint Joseph, MO 64502
000829 | Southern Agricultural Insecticides, Inc., PO Box 218, Palmetto, FL 34220
001812 | Dupont Crop Protection/stine-Haskell Research Center, Agent For: Griffin L.L.C., PO Box 30, Newark, DE 19714-0030
002212 | Walter G. Legge Co., Inc., PO Box 591, Peekski, NY 10566
002724 | Wellmark International, 1501 E. Woodfield Rd., Suite 200 W, Schaumburg, IL 60173
002935 | Wilbur Ellis Co., PO Box 1286, Fresno, CA 93715
005481 | Amvac Chemical Corp., Attn: Jon C. Wood, 4695 Macarthur Ct., Suite 1250, Newport Beach, CA 92660-1706
007401 | Brazos Associates, Inc., Agent For: Voluntary Purchasing Group Inc., 1806 Auburn Drive, Carrollton, TX 75007-1451
008660 | Sylorr Plant Corp., PO Box 142642, St. Lou, MO 63114-0642
009444 | Waterbury Companies Inc., PO Box 640, Independence, LA 70443
010159 | Brazos Associates, Inc., Agent For: Voluntary Purchasing Group Inc., 1806 Auburn Drive, Carrollton, TX 75007-1451
010163 | Gowan Co, PO Box 5569, Yu, AZ 85366-5569
012455 | Bell Laboratories Inc., 3699 Kinsman Blvd., Madison, WI 53704
019713 | Drexel Chemical Co, PO Box 13327, Memphis, TN 38113-0327
034911 | Brazos Associates, Inc., Agent For: Hi-Yield Chemical Co., 1806 Auburn Drive, Carrollton, TX 75007-1451
040849 | Acuity Specialty Products Group, Inc., Agent For: Enforcer Products, 1420 Seaboard Industrial Blvd. NW, Atlanta, GA 30318
042964 | Airkem Professional Products, Division of Ecolab, Inc., Ecolab Center, St. Paul, MN 55102
045735 | Burlington Scientific Corp., 71 Carolyn Blvd., Farmingdale, NY 11735
047000 | Steven E. Rogosheske, Agent For: Chem-Tech Ltd., 1479 W. Pond Rd, Eagan, MN 55122
048273 | Nufarm Co., Agent For: Marman USA Inc., 1333 Burr Ridge Parkway #125A, Burr Ridge, IL 60527
051036 | Micro-Flo Co. LLC, 530 Oak Ct. Drive, Memphis, TN 38117
053883 | Control Solutions, Inc., 5903 Genoa-Red Bluff, Pasadena, TX 77507-1041
056938 | ABC Corp., 94-085 Leonui Street, Waipahu, HI 96797
067760 | Cheminova Inc., 1700 Route 23 - Ste 300, Wayne, NJ 07470

III. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

IV. Procedures for Withdrawal of Request

Registrants who choose to withdraw a request for cancellation must submit such withdrawal in writing to the person listed under FOR FURTHER INFORMATION CONTACT, postmarked before April 26, 2006. This written withdrawal of the request for cancellation will apply only to the applicable FIFRA section 6(f)(1) request listed in this notice. If the product(s) have been subject to a previous cancellation action, the effective date of cancellation and all other provisions of any earlier cancellation action are controlling. The withdrawal request must also include a commitment to pay any reregistration fees due, and to fulfill any applicable unsatisfied data requirements.

V. Provisions for Disposition of Existing Stocks

The effective date of cancellation will be the date of the cancellation order. The orders effecting these requested cancellations will generally permit a registrant to sell or distribute existing stocks for 1 year after the date the cancellation request was received. This policy is in accordance with the Agency's statement of policy as prescribed in the Federal Register of June 26, 1991 (56 FR 29362) (FRL-3846-4). Exceptions to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a Special Review action, or where the Agency has identified significant potential risk concerns associated with a particular chemical.

List of Subjects

Environmental protection, Pesticides and pests.

Dated: October 20, 2005.
Robert A. Forrest,
Acting Director, Information Technology and Resource Management Division, Office of Pesticide Programs.

[FR Doc. 05-21532 Filed 10-27-05; 8:45 am]

BILLING CODE 6560-50-S